ENVIRONMENTAL PROTECTION AGENCY

[ER-FRL-6632-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 12, 2002 (67 FR 17992).

Draft EISs

ERP No. D-AFS-J65013-MT Rating EC2, Moose Post-Fire Project, Proposal to Decrease Potential Mortality from Bark Beetles to Remaining Live Douglas-fir and Spruce Trees, Recover Merchantable Wood Fiber, Reduce Future Fire Risk and Modify Existing Road Access, Glacier View Ranger District, Flathead National Forest, Flathead County, MT.

Summary: While EPA supports road decommissioning, EPA expressed environmental concerns about potential effects on roadless characteristics from timber harvests in roadless areas, and about potential water quality impacts to a 303(d) listed stream. EPA recommended additional seeding and planting in severely burned areas.

ERP No. D-AFS-L65401-ID Rating EC2, Sixshooter Project, Reduction of Threats from Insect Infestation and Wildfire, Sixmile and West Fork Creek, Boise National Forest, Emmett Ranger District, Gem County, ID.

Summary: EPA expressed environmental concerns with potential adverse environmental impacts to old growth forest habitat and water quality. The final EIS should fully disclose these impacts and any appropriate mitigation measures.

ERP No. D-FHW-H40174-IA Rating LO, Avenue G Viaduct and Connecting Corridor, Access Improvement for Local Emergency Services and Safety Through Expanded Capacity across the Trail Corridor, Funding and NPDES Permit, Pottawattamie County, IA.

Summary: EPA has no objection to the proposed action. However, applicability and compliance with the National Emission Standards for Hazardous Air Pollutants (asbestos) should be clarified in the FEIS.

ERP No. D-NRC-E06021-NC Rating EC1, Generic EIS—McGuire Nuclear Power Station Units 1 and 2, Supplement 8 to NUREG-1437, Located on the Shore of Lake Norman, Mecklenburg County, NC.

Summary: EPA expressed environmental concerns about and requested clarification on anticipated waste quantities and the status of groundwater wells.

ERP No. DR-AFS-K65203-CA Rating LO, Sirretta Peak Trail Project to Explore Locations for the Construction of Trail Routes Open to Off-Highway Vehicles and New Information Relating to the Sierra Nevada Forest Plan Amendment, Cannell Meadow Ranger District, Sequoia National Forest, Tulare County, CA.

Summary: EPA has no objections to the proposed action.

ERP No. D1-DOE-A09824-00 Rating EO2, Hanford Site Solid (Radioactive and Hazardous) Waste Program, Waste Management Practices Enhancement for Low-Level Radioactive Waste, Mixed Low-Level Radioactive Waste and Transuranic Waste, Richland, Benton County, WA.

Summary: EPA has environmental objections to both action alternatives because they are predicted to exceed MCLs of Iodine-129 and contribute to exceedances of MCLs for other radionuclides, thereby worsening contamination in the groundwater and vadose zone. EPA also notes that the draft provides insufficient information to fully describe existing and predicted impacts. EPA recommends that the EIS expand its alternative discussion to include changes in design or waste acceptance criteria to meet environmental standards and that it include additional information about the affected environment and environmental impacts.

Final EISs

ERP No. F-AFS-G65062-NMAgua/Caballos Timber Sale, Harvesting Timber and Managing Existing Vegetation, Implementation, Carson National Forest, El Rito Ranger District, Taos County, NM.

Summary: EPA expressed lack of objections.

ERP No. F-AFS-L65389-ORShore 'Nuf Timber Sale, Timber Harvesting on the Detroit Ranger District, Willamette National Forest, Linn and Marion Counties, OR.

Summary: No formal comment letter was sent to the preparing agency.

ERP No. F-APH-A65169-00Programmatic—EIS Rangeland Grasshopper and Mormon Cricket Suppression Program, Authorization, Funding and Implementation in 17 Western States, AZ, CA, CO, ID, KS, MT, NE, NV, NM, ND, OK, OR, SD, TX, UT, WA and WY.

Summary: EPA expressed lingering concerns with the FEIS with respect to mitigation measures for human exposure, water quality and pesticide drift mitigation. EPA suggested that APHIS consider these concerns as it proceeds to develop a Record of Decision for the Cricket Suppression Program.

ERP No. F-FHW-E40790-00Corridor 18/I-69 Proposed Improvements from the US 412/US 51 Interchange to the US 51 Fulton Bypass/Purchase Parkway Interchange, Funding, Dyer and Obion Counties, TN and Fulton County, KY.

Summary: EPA expressed no objections to this project, provided that mitigation measures and monitoring programs, as described in the Final EIS, are implemented as applicable.

Dated: August 20, 2002.
B. Katherine Biggs,
Associate Director, NEPA Compliance Division, Office of Federal Activities.

[FR Doc. 02-21563 Filed 8-22-02; 8:45 am]

BILLING CODE 6560-50-P